DEPARTMENT OF TRANSPORTATION

Federal Aviation Administration

14 CFR Part 71

[Docket No. FAA-2018-0437; Airspace Docket No. 18-ASO-5]

RIN 2120-AA66

Proposed Establishment and Modification of Area Navigation Routes, Florida Metroplex Project; Southeastern United States

AGENCY: Federal Aviation Administration (FAA), DOT.

ACTION: Notice of proposed rulemaking (NPRM).

SUMMARY: This action proposes to establish 16 high altitude area navigation (RNAV) routes (Q-routes), and modify 7 existing Q-routes, in support of the Florida Metroplex Project. The proposed routes were developed to improve the efficiency of the National Airspace System (NAS) and reduce dependency on ground-based navigational systems that cause system inefficiencies due to their limitations.

DATES: Comments must be received on or before July 9, 2018.

ADDRESSES: Send comments on this proposal to the U.S. Department of Transportation, Docket Operations, 1200 New Jersey Avenue SE, West Building Ground Floor, Room W12-140, Washington, DC 20590; telephone: 1(800) 647-5527 or (202) 366-9826. You must identify FAA Docket No. FAA-2018-0437; Airspace Docket No. 18-ASO-5 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to http://www.archives.gov/federal-register/cfr/ibr-locations.html.

FAA Order 7400.11, Airspace Designations and Reporting Points, is published yearly and effective on September 15.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of area navigation routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2018-0437; Airspace Docket No. 18-ASO-5) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0437; Airspace Docket No. 18-ASO-5.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order 7400.11B, Airspace Designations and Reporting Points, dated August 3, 2017, and effective September 15, 2017. FAA Order 7400.11B is publicly available as listed in the ADDRESSES section of this proposed rule. FAA Order 7400.11B lists Class A, B, C, D, and E airspace areas, air traffic service routes, and reporting points.

Background

The Florida Metroplex Project developed Performance Based Navigation (PBN) routes involving Jacksonville Air Route Traffic Control Center (ARTCC), Miami ARTCC, and San Juan Center Radar Approach Control (CERAP). The proposed new and amended Q-routes would support the strategy to transition the NAS from a ground-based navigation and radar-based system to a satellite-based PBN system. Additionally, the routes would connect to Caribbean Air Traffic Service routes to provide efficient direct routings to and from Caribbean locations.

Taking advantage of the capabilities of the advanced flight management systems in modern aircraft, these Q-routes would serve to reduce air traffic control (ATC) sector complexity, increase NAS capacity, reduce pilot-to-air traffic controller communications, and allow aircraft to be cleared to their cruising altitude and flight planned route more expeditiously.

Comment Period

This NPRM includes a 30-day public comment period instead of the 45-day period generally provided for area navigation route proposals. The proposed Q-routes would support the FAA's Next Generation Air Transportation System (NextGen) efforts to modernize the NAS. The routes would be a critical part of that effort to improve NAS efficiency by increasing airspace capacity and reducing complexity in high air traffic volume areas. The 30-day comment period would provide the opportunity for public input on the proposal as well as an option for FAA to consider the possibility of synchronizing the implementation of the routes with other scheduled NextGen programs and equipment upgrades.

The Proposal

The FAA is proposing an amendment to Title 14, Code of Federal Regulations (14 CFR) part 71 to establish 16 new Q-routes, and amend 7 existing Q-routes, in the southeastern United States in support of the Florida Metroplex Project. The proposed new routes would be designated Q-75, Q-77, Q-79, Q-81, Q-83, Q-85, Q-87, Q-89, Q-93, Q-97, Q-99, Q-109, Q-113, Q-135, Q-172, and Q-409. In addition, amendments are proposed to the descriptions of Q-65, Q-69, Q-103, Q-104, Q-110, Q-116, and Q-118. The proposed new and amended route end points are listed below. Full route descriptions are in “The Proposed Amendment” section of this notice.

The proposed new Q-routes are as follows:

Q-75: Q-75 would extend between the ENEME, GA, WP (in southeast GA) and the Greensboro, NC, VORTAC.

Q-77: Q-77 would extend between the OCTAL, FL, WP (on the southeast FL coast) and the WIGVO, GA, WP (near Union, GA).

Q-79: Q-79 would extend between the MCLAW, FL, WP (near the Florida Keys) and the Atlanta, GA, VORTAC. This would provide linkage to routes going to the Caribbean area.

Q-81: Q-81 would extend between the TUNSL, FL, WP (near the FL Keys) and the HONID, GA, WP (in southwest GA).

Q-83: Q-83 would extend between the JEVED, GA, WP (off the southeast GA coast) and the SLOJO, SC, WP (in northern SC).

Q-85: Q-85 would extend between the LPERD, FL, WP (off the northeast FL coast) and the SMPRR, NC, WP (in southern NC).

Q-87: Q-87 would extend between the PEAKY, FL, WP (near Marathon, FL) and the LCAPE, SC, WP (near the SC-NC line).

Q-89: Q-89 would extend between the MANLE, FL, WP (off the central Florida coast) and the Atlanta, GA, VORTAC.

Q-93: Q-93 would extend between the MCLAW, FL, WP (near the Florida Keys) and the QUIWE, SC, WP (in southwest SC).

Q-97: Q-97 would extend between the TOVAR, FL, WP (along the southeast Florida coast) and the ELLDE, NC, WP (in southern NC).

Q-99: Q-99 would extend between the DOFFY, FL, WP (in northern Florida) and the POLYY, NC, WP (near the SC-NC line).

Q-109: Q-109 would extend between the DOFFY, FL, WP (in northern Florida) and the LAANA, NC, WP (in southern NC).

Q-113: Q-113 would extend between the RAYVO, SC, WP (in east central SC) and the SARKY, SC, WP (near the SC-NC line).

Q-135: Q-135 would extend between the JROSS, SC, WP (north of Beaufort, SC) and the RAPZZ, NC, WP (in southern NC).

Q-172: Q-172 would extend between the YUTEE, SC, WP (in western SC) and the RAPZZ, NC, WP (in southern NC).

Q-409: Q-409 would extend between the ENEME, GA, WP (in southeast GA) and the MRPIT, NC, WP (in southern NC).

The proposed amended Q-routes are as follows:

Q-65: Q-65 currently extends between the JEFOI, GA, WP and the Rosewood, OH, VORTAC. The route would be extended to approximately 200 nautical miles (NM) south of the JEFOI, GA, WP to the KPASA, FL, WP. The KPASA, FL; DOFFY, FL; FETAL, FL; and ENEME, GA, WPs would be added prior to the JEFOI, GA, WP. The TRASY, GA, WP would be added between the JEFOI, GA, and the CESKI, GA, WPs.

Q-69: Q-69 currently extends between the BLAAN, SC, WP and the RICCS, WV, WP. The route would be extended approximately 210 NM to the south of the BLAAN, SC, WP to the VIYAP, GA, Fix (located near Brunswick, GA). The extended route segments would consist the of VIYAP, GA, fix; OLBEC, GA, WP; ISUZO, GA, WP; and the GURGE, SC, WP. The EMCET, SC, WP would be inserted between the BLAAN, SC, WP and the RYCKI, NC, WP.

Q-103: Q-103 currently extends between the Pulaski, VA, VORTAC and the AIRRA, PA, WP. The route would be extended to the south of the Pulaski, VA, VORTAC to the CYNTA, GA, WP (in southeastern GA). The extended segments would consist of the CYNTA, GA, WP; PUPYY, GA, WP; RIELE, SC, WP; EMCET, SC, WP; and the SLOJO, SC, WP.

Q-104: Q-104 currently extends between the DEFUN, FL, fix, and the Cypress, FL, VOR/DME. The route would be amended by removing the DEFUN, FL, fix; and the Cypress, FL, VOR/DME from the route. The ACORI, AL, WP, and the CABLO, GA, WP, would be added prior to the HEVVN, FL, fix. The ENDEW, FL, WP would be added between the SWABE, FL, fix and the St. Petersburg, FL, VORTAC.

Q-110: Q-110 currently extends between the BLANS, IL, WP, and the THNDR, FL, Fix. The amended route would be the same as currently charted between the BLANS, IL, WP and the JYROD, AL, WP. Beyond that point, the route would be realigned to terminate at the new OCTAL, FL, WP (on the southeast FL coast). The FEONA, GA; GULFR, FL; BRUTS, FL; KPASA, FL; RVERO, FL; WPs, and the THNDR, FL, fix, would be removed. The DAWWN, GA; JOKKY, FL; AMORY, FL; SMELZ, FL; and SHEEK, FL waypoints would be inserted between the JYROD, AL, WP and the JAYMC, FL, WP. After JAYMC, the route would proceed to the OCTAL, FL, WP.

Q-116: Q-116 currently extends between the KPASA, FL, WP, and the CEEYA, GA, WP. The current KPASA, FL; BRUTS, FL; GULFR, FL; and CEEYA, GA, waypoints would be removed. The route would be expanded and realigned to extend between the Vulcan, AL, VORTAC and the OCTAL, FL, WP (on the southeast FL coast). The following waypoints would be added between the Vulcan, AL, VORTAC and the OCTAL, FL, WP: DEEDA, GA; JAWJA, FL; MICES, FL; PATOY, FL; SMELZ, FL; SHEEK, FL; and JAYMC, FL.

Q-118: Q-118 currently extends between the Marion, IN, VOR/DME and the KPASA, FL, WP. The amended route would add the Atlanta, GA, VORTAC between the KAILL, GA, WP and the JOHNN, GA, WP; add the JAMIZ, FL, WP between the JOHNN, GA, and BRUTS, FL, WPs; and add the JINOS, FL, WP between the BRUTS, FL, and the KPASA, FL, WPs. Additionally, the route be extended to the south of the KPASA, FL, WP to the PEAKY, FL, WP (near Marathon in the Florida Keys). The SHEEK, FL, WP; CHRRI, FL, fix; FEMID, FL, WP and BRIES, FL, WP would be added between the KPASA, FL WP and the PEAKY, FL WP. Q-118 would provide linkage to routes from the Caribbean area.

Note: In the regulatory text, below, some route descriptions include waypoints located over international waters. In those route descriptions, in place of a two-letter state abbreviation, either “OA,” meaning “Offshore Atlantic,” or “OG,” meaning “Offshore Gulf of Mexico,” is used.

RNAV routes are published in paragraph 2006 of FAA Order 7400.11B dated August 3, 2017, and effective September 15, 2017, which is incorporated by reference in 14 CFR 71.1. The RNAV routes listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 2006 United States Area Navigation Routes.

* * * * *

Q-75 ENEME, GA to Greensboro, NC (GSO) [New]
ENEME, GA | WP | (Lat. 30°42′12.09″ N, long. 082°26′09.31″ W)
TEUFL, GA | WP | (Lat. 31°52′00.46″ N, long. 082°01′04.56″ W)
TEEEM, GA | WP | (Lat. 32°08′41.20″ N, long. 081°54′50.57″ W)
SHRIL, GA | WP | (Lat. 32°54′42.21″ N, long. 081°34′09.78″ W)
FISHO, SC | WP | (Lat. 33°16′46.25″ N, long. 081°24′43.52″ W)
ILBEE, SC | WP | (Lat. 34°18′41.66″ N, long. 081°01′07.88″ W)
SLOJO, SC | WP | (Lat. 34°38′46.31″ N, long. 080°39′25.63″ W)
Greensboro, NC (GSO) | VORTAC | (Lat. 36°02′44.49″ N, long. 079°58′34.95″ W)
Q-77 OCTAL, FL to WIGVO, GA [New]
OCTAL, FL | WP | (Lat. 26°09′01.91″ N, long. 080°06′37.51″ W)
MATLK, FL | WP | (Lat. 27°49′36.54″ N, long. 080°57′04.27″ W)
STYMY, FL | WP | (Lat. 28°01′09.65″ N, long. 081°08′41.27″ W)
WAKKO, FL | WP | (Lat. 28°18′00.69″ N, long. 081°24′53.94″ W)
WASUL, FL | WP | (Lat. 28°41′10.59″ N, long. 081°35′14.53″ W)
MJAMS, FL | WP | (Lat. 28°55′37.59″ N, long. 081°36′33.30″ W)
ETORE, FL | WP | (Lat. 29°41′49.00″ N, long. 081°40′47.75″ W)
SHRKS, FL | WP | (Lat. 30°37′23.23″ N, long. 081°45′59.13″ W)
TEUFL, GA | WP | (Lat. 31°52′00.46″ N, long. 082°01′04.56″ W)
WIGVO, GA | WP | (Lat. 32°37′24.00″ N, long. 082°02′18.00 W)
Q-79 MCLAW, FL to Atlanta, GA (ATL) [New]
MCLAW, FL | WP | (Lat. 24°33′49.00″ N, long. 081°01′00.00″ W)
VAULT, FL | WP | (Lat. 24°45′54.75″ N, long. 081°00′33.72″ W)
FEMID, FL | WP | (Lat. 26°06′29.59″ N, long. 081°27′23.07″ W)
WULFF, FL | WP | (Lat. 27°04′03.14″ N, long. 081°58′44.99″ W)
MOLIE, FL | WP | (Lat. 28°01′55.53″ N, long. 082°18′25.55″ W)
DOFFY, FL | WP | (Lat. 29°15′22.73″ N, long. 082°31′38.10″ W)
YUESS, GA | WP | (Lat. 31°41′00.00″ N, long. 083°33′31.20″ W)
Atlanta, GA (ATL) | VORTAC | (Lat. 33°37′44.68″ N, long. 084°26′06.23″ W)
Q-81 TUNSL, FL to HONID, GA [New]
TUNSL, FL | WP | (Lat. 24°54′02.43″ N, long. 081°31′02.80″ W)
KARTR, FL | FIX | (Lat. 25°29′45.76″ N, long. 081°30′46.24″ W)
FIPES, OG | WP | (Lat. 25°41′30.15″ N, long. 081°37′13.79″ W)
THMPR, FL | WP | (Lat. 26°46′00.21″ N, long. 082°20′23.99″ W)
LEEHI, FL | WP | (Lat. 27°07′21.91″ N, long. 082°34′54.57″ W)
FARLU, FL | WP | (Lat. 27°45′32.56″ N, long. 082°50′43.77″ W)
ENDEW, FL | WP | (Lat. 28°18′01.73″ N, long. 082°55′56.70″ W)
BITN, OG | WP | (Lat. 28°46′11.98″ N, long. 083°07′53.01″ W)
NICKI, FL | WP | (Lat. 29°15′20.19″ N, long. 083°20′31.80″ W)
HONID, GA | WP | (Lat. 31°38′50.31″ N, long. 084°23′42.60″ W)
Q-83 JEVED, GA to SLOJO, SC [New]
JEVED, GA | WP | (Lat. 31°15′02.60″ N, long. 081°03′40.14″ W)
ROYCO, GA | WP | (Lat. 31°35′10.38″ N, long. 081°02′22.45″ W)
TAALN, GA | WP | (Lat. 31°59′56.18″ N, long. 081°01′41.91″ W)
KONEY, SC | WP | (Lat. 32°17′01.62″ N, long. 081°01′23.79″ W)
WURFL, SC | WP | (Lat. 32°31′46.59″ N, long. 081°01′08.07″ W)
EFFAY, SC | WP | (Lat. 34°15′30.67″ N, long. 080°30′37.94″ W)
SLOJO, SC | WP | (Lat. 34°38′46.31″ N, long. 080°39′25.63″ W)
Q-85 LPERD, FL to SMPRR, NC [New]
LPERD, FL | WP | (Lat. 30°36′09.18″ N, long. 081°16′52.16″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
Q-87 PEAKY, FL to LCAPE, SC [New]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
FEMON, FL | WP | (Lat. 30°27′31.57″ N, long. 081°23′36.20″ W)
VIYAP, GA | FIX | (Lat. 31°15′08.15″ N, long. 081°26′08.18″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
Q-89 MANLE, FL to Atlanta, GA (ATL) [New]
MANLE, FL | WP | (Lat. 28°42′26.16″ N, long. 080°24′23.71″ W)
WAKUP, FL | WP | (Lat. 28°51′47.62″ N, long. 080°40′26.97″ W)
PRMUS, FL | WP | (Lat. 29°49′05.67″ N, long. 081°07′20.74″ W)
YANTI, GA | WP | (Lat. 31°47′22.38″ N, long. 082°51′32.65″ W)
Atlanta, GA (ATL) | VORTAC | (Lat. 33°37′44.68″ N, long. 084°26′06.23″ W)
Q-93 MCLAW, FL to QUIWE, SC [New]
MCLAW, FL | WP | (Lat. 24°33′49.00″ N, long. 081°01′00.00″ W)
VAULT, FL | WP | (Lat. 24°45′54.75″ N, long. 081°00′33.72″ W)
LINEY, FL | WP | (Lat. 25°16′44.02″ N, long. 080°53′15.43″ W)
FOBIN, FL | WP | (Lat. 25°47′02.00″ N, long. 080°46′00.89″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPN, OA | WP | (Lat. 30°37′36.03″ N, long. 081°04′26.44″ W)
GIPPL, GA | WP | (Lat. 31°22′53.96″ N, long. 081°09′53.70″ W)
ISUZO, GA | WP | (Lat. 31°57′47.85″ N, long. 081°14′14.79″ W)
FISHO, SC | WP | (Lat. 33°16′46.25″ N, long. 081°24′43.52″ W)
QUIWE, SC | WP | (Lat. 33°57′05.56″ N, long. 081°30′07.93″ W)
Q-97 TOVAR, FL to ELLDE, NC [New]
TOVAR, FL | WP | (Lat. 26°33′05.09″ N, long. 080°02′19.75″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPN, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELMSZ, SC | WP | (Lat. 33°40′36.61″ N, long. 079°17′59.56″ W)
YURCK, NC | WP | (Lat. 34°11′14.80″ N, long. 078°52′40.62″ W)
ELLDE, NC | WP | (Lat. 34°24′14.57″ N, long. 078°41′50.60″ W)
Q99 DOFFY, FL to POLYY, NC [New]
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
Q-109 DOFFY, FL to LAAN, NC [New]
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, GA | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
Q-113 RAYVO, SC to SARKY, SC [New]
RAYVO, SC | WP | (Lat. 33°38′44.12″ N, long. 080°04′00.84″ W)
CEELY, SC | WP | (Lat. 34°12′54.72″ N, long. 079°27′57.01″ W)
SARKY, SC | WP | (Lat. 34°25′41.43″ N, long. 079°14′17.50″ W)
Q-135 JROSS, SC to RAPZZ, NC [New]
JROSS, SC | WP | (Lat. 32°42′40.00″ N, long. 080°37′38.00″ W)
PELIE, SC | WP | (Lat. 33°21′23.88″ N, long. 079°44′43.43″ W)
ELMSZ, SC | WP | (Lat. 33°40′36.61″ N, long. 079°17′59.56″ W)
RAPZZ, NC | WP | (Lat. 34°15′03.34″ N, long. 078°29′17.58″ W)
Q-172 YUTEE, SC to RAPZZ, NC [New]
YUTEE, SC | WP | (Lat. 33°47′28.54″ N, long. 081°33′19.15″ W)
BWAGS, SC | WP | (Lat. 34°00′03.77″ N, long. 80°45′12.26″ W)
HINTZ, SC | WP | (Lat. 34°10′11.02″ N, long. 079°44′48.12″ W)
CEELY, SC | WP | (Lat. 34°12′54.72″ N, long. 079°27′57.01″ W)
OKNEE, SC | WP | (Lat. 34°15′39.92″ N, long. 079°10′40.68″ W)
KAATT, NC | WP | (Lat. 34°15′35.43″ N, long. 078°59′42.38″ W)
RAPZZ, NC | WP | (Lat. 34°15′03.34″ N, long. 078°29′17.58″ W)
Q-409 ENEME, GA to MRPIT, NC [New]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
JROSS, SC | WP | (Lat. 32°42′40.00″ N, long. 080°37′38.00″ W)
SESUE, GA | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
Q-65 KPASA, FL to Rosewood, OH (ROD) [Amended]
KPASA, FL | WP | (Lat. 28°10′34.00″ N, long. 081°54′27.00″ W)
DOFFY, FL | WP | (Lat. 29°15′22.73″ N, long. 082°31′38.10″ W)
FETAL, FL | WP | (Lat. 30°11′03.69″ N, long. 082°30′24.76″ W)
ENEME, GA | WP | (Lat. 30°42′12.09″ N, long. 082°26′09.31″ W)
JEFOI, GA | WP | (Lat. 31°35′37.02″ N, long. 082°31′18.38″ W)
TRASY, GA | WP | (Lat. 31°55′25.92″ N, long. 082°35′50.51″ W)
CESKI, GA | WP | (Lat. 32°16′21.27″ N, long. 082°40′38.96″ W)
DAREE, GA | WP | (Lat. 34°37′35.72″ N, long. 083°51′35.03″ W)
LORN, TN | WP | (Lat. 35°21′16.33″ N, long. 084°14′19.35″ W)
SOGEE, TN | WP | (Lat. 36°31′50.64″ N, long. 084°11′35.39″ W)
ENGRA, KY | WP | (Lat. 37°29′02.34″ N, long. 084°15′02.15″ W)
OCASE, KY | WP | (Lat. 38°23′59.05″ N, long. 084°11′05.32″ W)
Rosewood, OH (ROD) | VORTAC | (Lat. 40°17′16.08″ N, long. 084°02′35.15″ W)
Q-69 VIYAP, GA to RICCS, WV [Amended]
VIYAP, GA | FIX | (Lat. 31°15′08.15″ N, long. 081°26′08.18″ W)
OLBEC, GA | WP | (Lat. 31°28′32.85″ N, long. 081°26′17.61″ W)
ISUZO, GA | WP | (Lat. 31°57′47.85″ N, long. 081°14′14.79″ W)
GURGE, SC | WP | (Lat. 32°29′02.26″ N, long. 081°12′41.48″ W)
BLAAN, SC | WP | (Lat. 33°51′09.38″ N, long. 080°53′32.78″ W)
EMCET, SC | WP | (Lat. 34°09′41.99″ N, long. 080°50′12.51″ W)
RYCKI, NC | WP | (Lat. 36°24′43.05″ N, long. 080°25′07.50″ W)
LUNDD, VA | WP | (Lat. 36°44′22.38″ N, long. 080°21′07.11″ W)
ILLSA, VA | WP | (Lat. 37°38′55.85″ N, long. 080°13′18.44″ W)
EWESS, WV | WP | (Lat. 38°21′50.31″ N, long. 080°06′52.03″ W)
RICCS, WV | WP | (Lat. 38°55′14.65″ N, long. 080°05′01.68″ W)
Q-103 CYNTA, GA to AIRRA, PA [Amended]
CYNTA, GA | WP | (Lat. 30°36′27.06″ N, long. 082°05′35.45″ W)
PUPYY, GA | WP | (Lat. 31°24′35.58″ N, long. 081°49′06.19″ W)
RIELE, SC | WP | (Lat. 32°37′27.14″ N, long. 081°23′34.97″ W)
EMCET, SC | WP | (Lat. 34°09′41.99″ N, long. 080°50′12.51″ W)
SLOJO, SC | WP | (Lat. 34°38′46.31″ N, long. 080°39′25.63″ W)
Pulaski, VA (PSK) | VORTAC | (Lat. 37°05′15.74″ N, long. 080°42′46.44″ W)
ASBUR, WV | FIX | (Lat. 37°49′24.41″ N, long. 080°27′51.44″ W)
OAKLE, WV | FIX | (Lat. 38°07′13.80″ N, long. 080°21′44.84″ W)
PERRI, WV | FIX | (Lat. 38°17′50.49″ N, long. 080°18′05.11″ W)
PERKS, WV | FIX | (Lat. 38°39′40.84″ N, long. 080°10′29.36″ W)
RICCS, WV | WP | (Lat. 38°55′14.65″ N, long. 080°05′01.68″ W)
EMNEM, WV | WP | (Lat. 39°31′27.12″ N, long. 080°04′28.21″ W)
AIRRA, PA | WP | (Lat. 41°06′16.48″ N, long. 080°03′48.73″ W)
Q-104 ACORI, AL to St. Petersburg, FL (PIE) [Amended]
ACORI, AL | WP | (Lat. 31°46′23.36″ N, long. 085°51′29.51″ W)
CABLO, GA | WP | (Lat. 30°46′29.00″ N, long. 084°50′24.00″ W)
HEVVN, FL | FIX | (Lat. 29°49′19.11″ N, long. 083°53′42.89″ W)
LEGGT, FL | FIX | (Lat. 29°13′22.56″ N, long. 083°30′38.60″ W)
PLYER, FL | FIX | (Lat. 28°56′51.36″ N, long. 083°20′08.59″ W)
SWABE, FL | FIX | (Lat. 28°35′16.32″ N, long. 083°06′31.16″ W)
ENDEW, FL | WP | (Lat. 28°18′01.73″ N, long. 082°55′56.70″ W)
St. Petersburg, FL (PIE) | VORTAC | (Lat. 27°54′27.95″ N, long. 082°41′03.51″ W)
Q-110 BLANS, IL to OCTAL, FL [Amended]
BLANS, IL | WP | (Lat. 37°28′09.27″ N, long. 088°44′00.68″ W)
BETIE, TN | WP | (Lat. 36°07′29.88″ N, long. 087°54′01.48″ W)
SKIDO, AL | WP | (Lat. 34°31′49.10″ N, long. 086°53′11.16″ W)
BFOLO, AL | WP | (Lat. 34°03′33.98″ N, long. 086°31′30.49″ W)
JYROD, AL | WP | (Lat. 33°10′53.29″ N, long. 085°51′54.85″ W)
DAWWN, GA | WP | (Lat. 31°28′49.96″ N, long. 084°36′46.69″ W)
JOKKY, FL | WP | (Lat. 30°11′31.47″ N, long. 083°38′41.86″ W)
AMORY, FL | WP | (Lat. 29°13′17.02″ N, long. 082°55′42.90″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.91″ N, long. 080°06′37.51″ W)
Q-116 Vulcan, AL (VUZ) to OCTAL, FL [Amended]
Vulcan, AL (VUZ) | VORTAC | (Lat. 33°40′12.48″ N, long. 086°53′59.41″ W)
DEEDA, GA | WP | (Lat. 31°34′13.55″ N, long. 085°00′31.10″ W)
JAWJA, FL | WP | (Lat. 30°10′25.55″ N, long. 083°48′58.94″ W)
MICES, FL | WP | (Lat. 29°51′37.65″ N, long. 083°33′18.30″ W)
PATOY, FL | WP | (Lat. 29°03′52.49″ N, long. 082°54′00.09″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.91″ N, long. 080°06′37.51″ W)
Q-118 Marion, IN (MZZ) to PEAKY, FL [Amended]
Marion, IN (MZZ) | VOR/DME | (Lat. 40°29′35.99″ N, long. 085°40′45.30″ W)
HEVAN, IN | WP | (Lat. 39°21′08.86″ N, long. 085°07′46.70″ W)
VOSTK, KY | WP | (Lat. 38°28′15.86″ N, long. 084°43′03.58″ W)
HELUB, KY | WP | (Lat. 37°42′54.84″ N, long. 084°44′28.31″ W)
JEDER, KY | WP | (Lat. 37°19′30.54″ N, long. 084°45′14.17″ W)
GLAZR, TN | WP | (Lat. 36°25′20.78″ N, long. 084°46′49.29″ W)
KAILL, GA | WP | (Lat. 34°01′47.21″ N, long. 084°31′24.18″ W)
Atlanta, GA (ATL) | VORTAC | (Lat. 33°37′44.68″ N, long. 084°26′06.23″ W)
JOHNN, GA | FIX | (Lat. 31°31′22.94″ N, long. 083°57′26.55″ W)
JAMIZ, FL | WP | (Lat. 30°13′46.91″ N, long. 083°19′27.78″ W)
BRUTS, FL | WP | (Lat. 29°30′58.00″ N, long. 082°58′57.00″ W)
JINOS, FL | WP | (Lat. 28°27′45.60″ N, long. 082°08′04.60″ W)
KPASA, FL | WP | (Lat. 28°10′34.00″ N, long. 081°54′27.00″ W)
SHEEK, FL | WP | (Lat. 27°35′15.40″ N, long. 081°46′27.82″ W)
CHRRI, FL | FIX | (Lat. 27°03′00.70″ N, long. 081°39′14.81″ W)
FEMID, FL | WP | (Lat. 26°06′29.59″ N, long. 081°27′23.07″ W)
BRIES, FL | WP | (Lat. 25°03′56.03″ N, long. 081°14′38.35″ W)
PEAKY, FL | WP | (Lat. 24°35′23.72″ N, long. 081°08′53.91″ W)

* * * * *

Issued in Washington, DC, on May 30, 2018.
Rodger A. Dean, Jr.,
Manager, Airspace Policy Group.

[FR Doc. 2018-12293 Filed 6-7-18; 8:45 am]

BILLING CODE 4910-13-P